FEDERAL MARITIME COMMISSION

Sunshine Act Meetings

TIME AND DATE: September 21, 2022; 1:00 p.m.

PLACE: This meeting will be held at the Surface Transportation Board at the address below and also streamed live at www.fmc.gov.

Surface Transportation Board, 395 E Street SW, Room #1042 (Hearing Room), Washington, DC 20423.

STATUS: Part of the meeting will be open to the public: held in-person at the Surface Transportation Board for public attendants and also available to view streamed live, accessible from www.fmc.gov. The rest of the meeting will be closed to the public.

The hearing will be held on September 21, 2022, beginning at 1:00 p.m. in the Hearing Room of the Surface Transportation Board's headquarters (not at the Federal Maritime Commission) and will be open for public observation. If technical issues prevent the Commission from live streaming, the Commission will post a recording of the public portion of the meeting on the Commission's YouTube Channel. Any person wishing to attend the meeting in-person should report to Surface Transportation Board headquarters with enough time to clear building security procedures. Additional meeting guidance can be found on www.fmc.gov.

MATTERS TO BE CONSIDERED:

Portions Open to the Public

1. Commissioner Bentzel, Update on Maritime Transportation Data Initiative

2. Staff Briefing on Ocean Shipping Reform Act of 2022

Portions Closed to the Public

3. Staff Briefing on Demurrage and Detention Billing Requirements

4. Staff Briefing on Charge Complaints

CONTACT PERSON FOR MORE INFORMATION: William Cody, Secretary, (202) 523-5725.

William Cody,
Secretary.

[FR Doc. 2022-20161 Filed 9-14-22; 11:15 am]

BILLING CODE 6730-02-P